DEPARTMENT OF DEFENSE

GENERAL SERVICES ADMINISTRATION

NATIONAL AERONAUTICS AND SPACE ADMINISTRATION

48 CFR Chapter 1

[Docket FAR 2012-0080, Sequence 2]

Federal Acquisition Regulation; Federal Acquisition Circular 2005-57; Introduction

AGENCIES: Department of Defense (DoD), General Services Administration (GSA), and National Aeronautics and Space Administration (NASA).

ACTION: Summary presentation of an interim rule.

SUMMARY: This document summarizes the Federal Acquisition Regulation (FAR) rule agreed to by the Civilian Agency Acquisition Council and the Defense Acquisition Regulations Council (Councils) in this Federal Acquisition Circular (FAC) 2005-57. A companion document, the Small Entity Compliance Guide (SECG), follows this FAC. The FAC, including the SECG, is available via the Internet at http://www.regulations.gov.

DATES: For effective date and comment date see separate document, which follows.

FOR FURTHER INFORMATION CONTACT: The analyst whose name appears in the table below in relation to the FAR case. Please cite FAC 2005-57 and the specific FAR case number. For information pertaining to status or publication schedule, contact the Regulatory Secretariat at 202-501-4755.

List of Rule in FAC 2005-57
Subject | FAR case | Analyst
United States-Korea Free Trade Agreement (Interim) | 2012-004 | Erwin

SUPPLEMENTARY INFORMATION: A Summary for the FAR rule follows. For the actual revisions and/or amendments made by this FAR case, refer to FAR Case 2012-004.

FAC 2005-57 amends the FAR as specified below:

United States-Korea Free Trade Agreement (FAR Case 2012-004) (Interim)

This interim rule implements the United States-Korea Free Trade Agreement (see the United States-Korea Free Trade Agreement Implementation Act (Pub. L. 112-41) (19 U.S.C. 3805 note)).

The Republic of Korea is already party to the World Trade Organization Government Procurement Agreement (WTO GPA). This Free Trade Agreement now covers acquisition of supplies and services between $100,000 and the current WTO GPA threshold of $202,000. This interim rule is not expected to have a significant economic impact on a substantial number of small entities.

Dated: March 1, 2012.
Laura Auletta,
Director, Office of Governmentwide Acquisition Policy, Office of Acquisition Policy, Office of Governmentwide Policy.

Federal Acquisition Circular (FAC) 2005-57 is issued under the authority of the Secretary of Defense, the Administrator of General Services, and the Administrator for the National Aeronautics and Space Administration.

Unless otherwise specified, all Federal Acquisition Regulation (FAR) and other directive material contained in FAC 2005-57 is effective March 15, 2012.

Dated: March 1, 2012.
Richard Ginman,
Director, Defense Procurement and Acquisition Policy.
Dated: March 1, 2012.
Mindy S. Connolly,
Chief Acquisition Officer, U.S. General Services Administration.
Dated: March 1, 2012.
William P. McNally,
Assistant Administrator for Procurement, National Aeronautics and Space Administration.

[FR Doc. 2012-5525 Filed 3-6-12; 8:45 am]

BILLING CODE 6820-EP-P